DEPARTMENT OF ENERGY

Federal Energy Regulatory Commission

[Docket No. CP07-102-000]

Paiute Pipeline Company; Notice of Request Under Blanket Authorization

March 22, 2007.

Take notice that on March 14, 2007, Paiute Pipeline Company (Paiute), P.O. Box 94197, Las Vegas, Nevada 89193-4197, filed in Docket No. CP07-102-000 a prior notice request pursuant to sections 157.205 and 157.210 of the Commission's regulations under the Natural Gas Act (NGA) to construct and operate certain mainline natural gas facilities as part of its “2007 Expansion Project,” all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (886) 208-3676 or TYY, (202) 502-8659.

Specifically, Paiute proposes to (1) install a total of approximately 3.2 miles of new mainline loop facilities on its Carson and South Tahoe Laterals in Carson City County and Douglas County, Nevada, and (2) modify measurement and pressure regulating facilities at the South Tahoe Pressure Limiting Station on its South Tahoe Lateral in Douglas County, Nevada, under Section 157.210 of the Commission's regulations. In addition, as part of its 2007 Expansion Project, Paiute plans to (1) replace approximately 1.5 miles of existing lateral pipeline with larger diameter pipeline on its Yerington Lateral in Lyon County, Nevada, and (2) modify four existing delivery point facilities served by its Carson and South Tahoe Laterals, under the automatic authorization provisions of Sections 157.208(a) and 157.211(a)(1), respectively, of the Commission's regulations. Paiute states that the purpose of the proposed project is to enhance the capacity on its Carson and South Tahoe Laterals to meet the requests of three shippers for 8,913 Dth/d of additional firm transportation service capacity. Paiute further states that the total cost of all of the 2007 Expansion Project facilities is estimated to be $5,273,000.

Any questions regarding the application should be directed to Edward C. McMurtrie, Vice President/General Manager, Paiute Pipeline Company, P.O. Box 94197, Las Vegas, Nevada 89193-4197 at (702) 876-7178.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefore, the proposed activity shall be deemed to be authorized effective the day after the time allowed for protest. If a protest is filed and not withdrawn within 30 days after the time allowed for filing a protest, the instant request shall be treated as an application for authorization pursuant to Section 7 of the NGA.

The Commission strongly encourages electronic filings of comments, protests, and interventions via the Internet in lieu of paper. See 18 CFR 385.2001(a)(1)(iii) and the instructions on the Commission's Web site (www.ferc.gov) under the “e-Filing” link.

Philis J. Posey,
Acting Secretary.

[FR Doc. E7-5692 Filed 3-28-07; 8:45 am]

BILLING CODE 6717-01-P